DEPARTMENT OF AGRICULTURE

Animal and Plant Health Inspection Service

[Docket No. APHIS-2009-0066]

Wood Packaging Material Used in Domestic Commerce; Pest Mitigation Relating to Firewood Movement; Public Meetings

AGENCY: Animal and Plant Health Inspection Service, USDA.

ACTION: Notice of public meetings.

SUMMARY: This is a notice to inform the public of four upcoming meetings to discuss mitigation measures that could be applied to wood packaging material (e.g., crates, dunnage, wooden spools, pallets, packing blocks) used in domestic commerce to decrease the risk of the artificial spread of plant pests such as the emerald ash borer and the Asian longhorned beetle. These and other plant pests that could be transported interstate by wood packaging material pose a serious threat to U.S. agriculture and to natural, cultivated, and urban forests. We will also be holding a meeting in order to solicit public comments and ideas concerning potential strategies for mitigating the risk of artificial spread of plant pests via the movement of firewood.

DATES: The meetings concerning wood packaging material will be held on August 27, 2009, in Washington, DC; on September 2, 2009, in Portland, OR; on September 15, 2009, in Houston, TX; and on September 29, 2009, in Grand Rapids, MI. The meetings in each location will be held from 9 a.m. to noon. Registration will be from 8 a.m. to 9 a.m. for each meeting.

The meeting concerning the creation of a Federal firewood strategy will be held on August 27, 2009, from 1 p.m. to 4 p.m. in Washington, DC. Registration will be from 12 noon to 1 p.m.

ADDRESSES: The public meetings regarding wood packaging material and the creation of a Federal firewood strategy will be held in Washington, DC. in the Jefferson Auditorium at the USDA South Building, 1400 Independence Avenue, SW., Washington, DC. The remaining meetings regarding wood packaging material will be held at the following locations:

• Portland, OR. The Embassy Suites Hotel, 319 SW Pine Street, Portland, OR.

• Houston, TX. The Crowne Plaza Houston I-10 West, 14703 Park Row, Houston, TX.

• Grand Rapids, MI. The Amway Grand Plaza Hotel, 187 Monroe Avenue, NW., Grand Rapids, MI.

FOR FURTHER INFORMATION CONTACT: Mr. Paul Chaloux, National Emerald Ash Borer Program Manager, PPQ, APHIS, 4700 River Road Unit 137, Riverdale, MD 20737-1236; (301) 734-0917.

SUPPLEMENTARY INFORMATION:

Domestic Wood Packaging Material Public Meetings

As part of its ongoing efforts to safeguard plant health, the U.S. Department of Agriculture (USDA) is considering options for strengthening our response to the risks of the artificial spread of plant pests such as the pine shoot beetle Tomicus piniperda (Scolytidae) and the Asian longhorned beetle Anaplophora glabripennis (Cerambycidae) that are associated with the interstate movement of wood packaging material (WPM).

In order to provide individuals and organizations an opportunity to discuss options for strengthening our response to the risks associated with the interstate movement of WPM, the potential impacts of increased use of alternative packaging materials, the environmental issues relating to these options, and any other topics of concern, we plan to hold several public meetings. Our goal is to gather feedback and input from a wide range of stakeholders to assist us in making an informed decision regarding our objectives and direction in relation to the interstate movement of WPM. Topics for discussion at each meeting will include, but not necessarily be limited to, the following:

• Pest risks. What is the magnitude of the pest risks associated with WPM moving interstate? What treatments or other measures would be effective in reducing pest risks associated with WPM moving interstate and to what degree would these risks be reduced by these approaches?

• Compliance. Would responsibility lie with the manufacturer, end user, shipper, or elsewhere for ensuring that WPM meets any standards that might be developed? How could APHIS best monitor compliance with any such standards? If treatment of some kind were required for all WPM moving interstate, would a phase-in period be required, and if so, how long should this period last?

• Alternative materials. To what extent could alternative packing materials (processed wood packaging materials, plastic packing materials, or other alternatives) be substituted for WPM in interstate commerce? What would the environmental, economic, and other impacts be of any such substitution?

• Environmental impacts. What would the environmental impacts be if treatment or other measures were required for WPM moving interstate?

• Cost. What would the economic impacts be if treatment or other measures were required for WPM moving interstate?

Federal Firewood Strategy Public Meeting

In addition, we are seeking suggestions from the public regarding the creation of a Federal firewood strategy in order to better mitigate the pest risks associated with the movement of firewood within the United States. Specifically, we are seeking any potential strategies that may be used to control the movement of invasive plant pests via the movement of firewood. There are many potential approaches to addressing this issue, including voluntary, regulatory, and outreach-based programs.

On-site registration will begin at 8 a.m. on the day of each meeting concerning wood packaging material and at noon for the meeting concerning Federal firewood strategy. All participants must register on the day of the meeting. If you require special accommodations, such as a sign language interpreter, or if you have any questions regarding the meetings, please call or write the person listed under FOR FURTHER INFORMATION CONTACT.

Persons attending the August 27, 2009, meetings in Washington, DC, will be required to sign in at the entrance to the USDA South Building located at 14th Street and Independence Avenue, entering through Wing 7. Photo identification is required to gain access to the building. The nearest Metro station is the Smithsonian station on the Blue/Orange Lines, which is within walking distance.

Done in Washington, DC, this 11th day of August 2009.
William H. Clay,
Acting Administrator, Animal and Plant Health Inspection Service.

[FR Doc. E9-19643 Filed 8-14-09; 8:45 am]

BILLING CODE 3410-34-P